DEPARTMENT OF AGRICULTURE

Forest Service

Information Collection; Disposal of National Forest Timber, Timber Export and Substitution Restrictions

AGENCY: Forest Service, USDA.

ACTION: Notice; request for comment.

SUMMARY: In accordance with the Paperwork Reduction Act of 1995, the Forest Service is seeking comments from all interested individuals and organizations on the renewal with revisions of a currently expired information collection, Disposal of National Forest Timber, Timber Export and Substitution Restrictions.

DATES: Comments must be received in writing on or before June 6, 2022 to be assured of consideration. Comments received after that date will be considered to the extent practicable.

ADDRESSES: Comments concerning this notice should be addressed to Director, Forest Management, 1400 Independence Avenue SW, Mail Stop 1103, Washington, DC 20250-0003. Comments also may be submitted via facsimile to (202) 205-1045 or electronic mail to kraig.kidwell@usda.gov.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may view comments received on the World Wide Web/internet site at: http://www.fs.fed.us/forestmanagement. The public may request an electronic copy of the draft supporting statement and/or any comments received be sent via return email. Requests should be emailed to kraig.kidwell@usda.gov.

FOR FURTHER INFORMATION CONTACT: Kraig Kidwell, Contracts and Appraisals Group Lead, at 541-961-2614 or kraig.kidwell@usda.gov. Individuals who use telecommunication devices for the deaf (TDD) may call the Federal Relay Service (FRS) at 1-800-877-8339 twenty-four hours a day, every day of the year, including holidays. Individuals who use telecommunication devices for the deaf (TDD) may call the Federal Information Relay Service (FIRS) at 1-800-877-8339 twenty-four hours a day, every day of the year, including holidays.

SUPPLEMENTARY INFORMATION: Title: Disposal of National Forest Timber, Timber Export and Substitution Restrictions.

OMB Number: 0596-0114.

Expiration Date of Approval: May 31, 1999.

Type of Request: Reinstatement of an Information Collection.

Abstract: Pursuant to statutory requirements at 16 U.S.C. 620, each person who acquires, either directly or indirectly, unprocessed timber originating from Federal lands west of the 100th meridian in the contiguous 48 States shall report the receipt and disposition of such timber to the Secretary concerned, in such form as such Secretary may by rule prescribe.

For the USDA Forest Service, such report shall be on a calendar year basis and shall be sent to the Regional Forester, or other official to whom such authority is delegated, who administers the National Forest System lands from which the majority of timber originated, not later than March 1 of each year, beginning March 1, 1997.

Respondents are persons who acquire timber originating from National Forest System lands west of the 100th meridian in the contiguous 48 States. The data collected are used by the agency to monitor and enforce statutory requirements that Federal timber is not exported or used in direct or indirect substitution for private timber that is exported. Data gathered in this information collection is not available from other sources.

Forms Associated With This Information Collection

FS-2400-59—Certification of Receipt and Disposition of Timber Originating from National Forest System Lands: This form will be used to collect and certify the sale or company name where NFS timber is acquired from, the date acquired, National Forest, Contract number and brand code or brand, name of entity to whom NFS timber was sold or transferred, description of the relationship with the entity to whom NFS timber was sold or transferred, date disposed, volume acquired, volume domestically processed by purchaser or affiliates, and volume sold or transferred for domestic processing.

Estimate of Burden: 240 minutes.

Type of Respondents: Individuals, large and small businesses, and corporations who acquire National Forest System timber.

Estimated Number of Respondents: 1,000.

Estimated Number of Responses per Respondent: 1.

Estimated Total Annual Burden on Respondents: 4,000 hours.

Comment is Invited: The agency invites comments on the following: (a) Whether the proposed collection of information is necessary for the stated purposes or the proper performance of the functions of the agency, including whether the information shall have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Chris French,
Deputy Chief, National Forest System.

[FR Doc. 2022-07308 Filed 4-5-22; 8:45 am]

BILLING CODE 3411-15-P